DEPARTMENT OF COMMERCE

National Oceanic and Atmospheric Administration

Proposed Information Collection; Comment Request; Northeast Region Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 31, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Aja Peters-Mason at (978) 281-9195 or aja.peters-mason@noaa.gov.

SUPPLEMENTARY INFORMATION:

I. Abstract

Under the Magnuson-Stevens Fishery Conservation and Management Act, the Secretary of Commerce (Secretary) has the responsibility for the conservation and management of marine fishery resources. Much of this responsibility has been delegated to the National Oceanic and Atmospheric Administration (NOAA)/National Marine Fisheries Service (NMFS). Under this stewardship role, the Secretary was given certain regulatory authorities to ensure the most beneficial uses of these resources. One of the regulatory steps taken to carry out the conservation and management objectives is to collect information from users of the resource.

As regional Fishery Management Councils develop specific Fishery Management Plans (FMP), the Secretary has promulgated rules for the issuance of permits to individuals and organizations participating in Federally controlled fisheries in order to: (1) Register fishermen, fishing vessels, fish dealers and processors, (2) List the characteristics of fishing vessels and/or dealer/processor operations, (3) Exercise influence over compliance (e.g., withhold issuance pending collection of unpaid penalties), (4) Provide a mailing list for the dissemination of important information to the industry, (5) Register participants to be considered for limited entry, (6) Provide a universe for data collection samples, and (7) Provide notification when a vessel is conducting fishing activities that are authorized by the FMPs only in specific circumstances (e.g., exemption programs). The identification of the participants, their gear types, vessels, and expected activity levels is an effective tool in the enforcement of fishery regulations. This information is needed to measure the consequences of management controls as well. Participants in certain fisheries may also to be required to notify NMFS before fishing trips for the purpose of observer placement and to make other reports on fishing activities.

II. Method of Collection

Initial vessel and dealer permit applications are made by signed paper form. After initial permit issuance, a pre-printed permit renewal form is generated via computer using current permit information. This form is then sent to the permit holder for updates. If no changes to the pre-printed form are required, the applicant simply needs to sign the form and return it with any additional information (i.e., current state registration or United States (U.S.) Coast Guard document) required for permit renewal. Initial and renewal vessel operator permit applications, additional information associated with vessel permits including gillnet and lobster trap tag purchases, and permanent days-at-sea (DAS) transfers, are submitted by signed paper form. Automated position reporting by means of a Vessel Monitoring System (VMS) is required for all vessels issued a limited access sea scallop, Northeast (NE) multispecies, surf clam/ocean quahog, herring, or monkfish Category F permit. Permitted Canadian herring transport vessels must also be equipped with VMS. Vessel owners issued a monkfish Category A or B permit may voluntarily elect to provide DAS notification through VMS. VMS power down exemption requests are submitted by signed paper form. Categories of vessels not required to use VMS are required to report via a DAS call-in system.

III. Data

OMB Control Number: 0648-0202.

Form Number: None.

Type of Review: Regular submission.

Affected Public: Business and other for-profit organizations; individuals or households; state, local or tribal governments.

Estimated Number of Respondents: 51,339.

Estimated Time Per Response: Initial vessel permit applications, 45 minutes; preprinted renewal forms, 30 minutes; initial dealer permit applications, 15 minutes; preprinted dealer permit renewal forms, 5 minutes; initial and renewal vessel operator permit applications, 1 hour; limited access vessel upgrade or replacement applications, 3 hours; applications for retention of limited access permit history, 30 minutes; VMS unit installation, 1 hour; confirming VMS connectivity, 5 minutes; VMS certification form, 5 minutes; request to turn off VMS under certain circumstances (power-down exemption), 30 minutes; area and DAS declarations, 5 minutes; requests for observer coverage, 2 or 10 minutes, depending on the program for which observers are requested; NE multispecies and monkfish vessels, 3 minutes to declare a block of time out of the gillnet fishery; call-in requirements for limited-access monkfish and occasional category scallop vessels, 2 minutes; limited access vessels fishing under DAS requirements that have assisted in U.S. Coast Guard search and rescue operations or assisted in towing a disabled vessel, or have stood by entangled whales, Good Samaritan DAS credit applications, 30 minutes; application for a Letter of Authorization (LOA) to participate in any of the exemption programs, to transfer certain fish species from one vessel to another, or (for charter/party vessels), to fish in the Nantucket Lightship Closure Area, 5 minutes; requests for Charter/Party Exemption Certificate to fish in Gulf of Maine (GOM) closed areas, 2 minutes; limited access sea scallop vessel notification of participation, of first trip, or withdrawal from participation in state waters DAS or gear exemption programs, 2 minutes; NE multispecies fishery vessels request for change in permit category designation or request for transit to another port by a vessel required to remain within the GOM cod trip limit, 2 minutes; request to permanently transfer DAS to another vessel, 5 minutes; research requests for GOM Cod Research Set Aside landings allowances, 1 hour; calling out of a gillnet fishery for NE multispecies or monkfish, 3 minutes; gillnet category designation, including initial requests for gillnet tags, 10 minutes; requests for additional tags, notification of lost tags and requests for replacements, 2 minutes; attachment of a tag, 1 minute; initial lobster area designations, 5 minutes; requests for state quota transfers in the bluefish, summer flounder and scup fisheries, 1 hour; applications for sector allocations in the NE multispecies fishery, 50 hours per sector; annual reports for approved sector applications, 6 hours.

Estimated Total Annual Burden Hours: 31,144.

Estimated Total Annual Cost to Public: $4,991,553 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 29, 2009.
Gwellnar Banks,
Management Analyst, Office of the Chief Information Officer.

[FR Doc. E9-15681 Filed 7-1-09; 8:45 am]

BILLING CODE 3510-22-P